DEPARTMENT OF LABOR

Employment and Training Administration

[NAFTA-02847]

Sun Apparel of Texas, LTD Armour Plant Cutting Room and Laundry Facility El Paso, TX; Amended Certification Regarding Eligibility to Apply for NAFTA-Transitional Adjustment Assistance

In accordance with section 250(A), Subchapter D, Chapter 2, Title II, of the Trade Act of 1974 (19 USC 2273), the Department of Labor issued a Certification for NAFTA Transitional Adjustment Assistance on March 22, 1999, applicable to workers of Sun Apparel of Texas, Ltd., Armour Plant Cutting Room, El Paso, Texas. The notice was published in the Federal Register on April 27, 1999 (64 FR 22649).

At the request of the State agency, the Department reviewed the certification for workers of the subject firm. The workers were engaged in cutting fabric for the apparel industry. New information shows that worker separations occurred at the laundry facility of the subject firm and will continue until its closing in November, 2000. The workers provided laundry services supporting the cutting room operation which closed in 1999. The laundry facility workers were inadvertently omitted from the certification.

The intent of the Department's certification is to include all workers of Sun Apparel of Texas, Ltd., Armour Plant Cutting Room who were adversely affected by increased imports from Mexico.

Accordingly, the Department is amending the certification to include workers of Sun Apparel of Texas, Ltd., Armour Plant Cutting Room, and Laundry Facility, El Paso, Texas. The amended notice applicable to NAFTA-02847 is hereby issued as follows:

“All workers of Sun Apparel of Texas, Ltd., Armour Plant Cutting Room and Laundry Facility, El Paso, Texas who became totally or partially separated from employment on or after March 22, 1999 through March 22, 2001 are eligible to apply for NAFTA-TAA under Section 250 of the Trade Act of 1974.”

Signed at Washington, DC this 10th day of October, 2000.
Linda G. Poole,
Certifying Officer, Division of Trade Adjustment Assistance.

[FR Doc. 00-26722 Filed 10-17-00; 8:45 am]

BILLING CODE 4510-30-M